DEPARTMENT OF ENERGY

Federal Energy Regulatory Commission

[Docket No. CP01-176-001]

Georgia Strait Crossing Pipeline LP; Notice of Amendment

November 21, 2001.

Take notice that on October 11, 2001, Georgia Strait Crossing Pipeline LP (GSX-US), 295 Chipeta Way, Salt Lake City, Utah 84108, filed in Docket No. CP01-176-001, an amendment to its April 24, 2001 application for a certificate of public convenience and necessity filed in Docket No. CP01-176-000. With this amendment, GSX-US is requesting authorization to construct and operate a new interstate natural gas transmission system consisting of approximately 47 miles of pipeline, the Cherry Point Compressor Station and other related facilities in the state of Washington, all as more fully set forth in the application which is on file with the Commission and open to public inspection. Copies of this filing are on file with the Commission and are available for public inspection. This filing may also be viewed on the web at http://www.ferc.gov using the “RIMS” link, select “Docket #” and follow the instructions (call 202-208-2222 for assistance).

GSX-US states that it has amended its original application to reflect: (i) Minor route variations that add about ½ mile of pipeline to the project, along with the relocation/resizing of the site for the proposed Cherry Point Compressor Station; (ii) selection of a more efficient compressor package that will result in increased system design capacity and lowered recourse reservation rates; and (iii) the relocation of an onshore delivery tap and addition of a offshore delivery tap to facilitate potential future delivery interconnects.

Any questions concerning this application may be directed to Gary Kotter, Manager, Certificates, GSX Pipeline, L.L.C., P.O. Box 58900, Salt Lake City, Utah 84158, call (801) 584-7117.

There are two ways to become involved in the Commission's review of this project. First, any person wishing to obtain legal status by becoming a party to the proceedings for this project should, on or before December 12, 2001, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments and protests may be filed electronically via the internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

David P. Boergers,
Secretary.

[FR Doc. 01-29571 Filed 11-27-01; 8:45 am]

BILLING CODE 6717-01-P